DEFENSE NUCLEAR FACILITIES SAFETY BOARD

Sunshine Act Notice

AGENCY: Defense Nuclear Facilities Safety Board.

ACTION: Notice of public meeting.

SUMMARY: Pursuant to the provisions of the “Government in the Sunshine Act” (5 U.S.C. 552b), and as authorized by 42 U.S.C. 2286b, notice is hereby given of the Defense Nuclear Facilities Safety Board's (Board) public hearing and meeting described below. The Board invites any interested persons or groups to present any comments, technical information, or data concerning safety issues related to the matters to be considered.

DATES: Time and Date of Meeting: Session I: 1 p.m.-4 p.m., March 22, 2012; Session II: 6 p.m.-9 p.m., March 22, 2012.

Place: Three Rivers Convention Center, 7016 West Grandridge Boulevard, Kennewick, Washington 99352.

Status: Open. While the Government in the Sunshine Act does not require that the scheduled discussion be conducted in a meeting, the Board has determined that an open meeting in this specific case furthers the public interests underlying both the Sunshine Act and the Board's enabling legislation.

Matters to be Considered: In Session I of this public hearing and meeting, the Board will receive testimony from the Department of Energy (DOE) and its contractors concerning the status of actions related to unresolved technical safety issues in the design of the Waste Treatment and Immobilization Plant (WTP). This will include actions discussed in DOE's implementation plan for the Board's Recommendation 2010-2, Pulse Jet Mixing at the Waste Treatment and Immobilization Plant, issued on December 17, 2010, and progress in defining the infrastructure needs at the Tank Farms in order to deliver waste safely and efficiently to WTP. During Session II, the Board will receive testimony regarding the status of actions related to DOE's implementation plan for the Board's Recommendation 2011-1, Safety Culture at the Waste Treatment and Immobilization Plant, which was issued on June 9, 2011. The Board will also examine the link between the safety culture of DOE and its contractors and the ability of the WTP project to identify and resolve technical issues, such as those discussed in Session I, in a timely manner. The public hearing portion of this proceeding is authorized by 42 U.S.C. 2286b.

FOR FURTHER INFORMATION CONTACT: Brian Grosner, General Manager, Defense Nuclear Facilities Safety Board, 625 Indiana Avenue NW., Suite 700, Washington, DC 20004-2901, (800) 788-4016. This is a toll-free number.

SUPPLEMENTARY INFORMATION: Public participation in the hearing is invited. The Board is setting aside time at the end of each session of the hearing for presentations and comments from the public. Requests to speak may be submitted in writing or by telephone. The Board asks that commenters describe the nature and scope of their oral presentations. Those who contact the Board prior to close of business on March 16, 2012, will be scheduled to speak at the session of the hearing most relevant to their presentations. At the beginning of Session I, the Board will post a schedule for speakers at the entrance to the hearing room. Anyone who wishes to comment or provide technical information or data may do so in writing, either in lieu of, or in addition to, making an oral presentation. The Board Members may question presenters to the extent deemed appropriate. Documents will be accepted at the hearing or may be sent to the Board's Washington, DC, office. The Board will hold the record open until April 23, 2012, for the receipt of additional materials. The hearing will be presented live through Internet video streaming. A link to the presentation will be available on the Board's Web site (www.dnfsb.gov). A transcript of the hearing, along with a DVD video recording, will be made available by the Board for inspection and viewing by the public at the Board's Washington office and at DOE's public reading room at the DOE Federal Building, 1000 Independence Avenue SW., Washington, DC 20585. The Board specifically reserves its right to further schedule and otherwise regulate the course of the meeting and hearing, to recess, reconvene, postpone, or adjourn the meeting and hearing, conduct further reviews, and otherwise exercise its power under the Atomic Energy Act of 1954, as amended.

Dated: January 3, 2012.
Peter S. Winokur,
Chairman.

[FR Doc. 2012-44 Filed 1-3-12; 4:15 pm]

BILLING CODE 3670-01-P